NUCLEAR REGULATORY COMMISSION

10 CFR Part 50

[Docket No. PRM-50-102; NRC-2011-0189]

Petition for Rulemaking; Submitted by the Natural Resources Defense Council, Inc.

AGENCY: Nuclear Regulatory Commission.

ACTION: Petition for rulemaking; consideration in the rulemaking process.

SUMMARY: The U.S. Nuclear Regulatory Commission (NRC or the Commission) will consider the issues raised in the petition for rulemaking (PRM), PRM-50-102, submitted by the Natural Resources Defense Council, Inc. (NRDC or the petitioner), in the rulemaking process. The petitioner requested that the NRC amend its regulations to require more realistic, hands-on training and exercises on Severe Accident Management Guidelines (SAMGs) and Extensive Damage Mitigation Guidelines (EDMGs). The NRC determined that the issues raised in the PRM are appropriate for consideration and will consider them in the ongoing Fukushima Near Term Task Force (NTTF) Recommendation 8 rulemaking.

DATES: The docket for the petition for rulemaking, PRM-50-102, is closed on April 27, 2012.

ADDRESSES: Further NRC action on the issues raised by this petition will be accessible on the Federal rulemaking Web site, http://www.regulations.gov, by searching on Docket ID NRC-2012-0031, which is the rulemaking docket for the NTTF Recommendation 8 rulemaking.

You can access publicly available documents related to the petition, which the NRC possesses and is publicly available, using the following methods:

• Federal Rulemaking Web Site: Supporting materials related to this petition can be found at http://www.regulations.gov by searching on the Docket IDs for PRM-50-102 or the NTTF Recommendation 8 rulemaking, NRC-2011-0189 and NRC-2012-0031, respectively. Address questions about NRC dockets to Carol Gallagher, telephone: 301-492-3668, email: Carol.Gallagher@nrc.gov.

• NRC's Public Document Room (PDR): You may examine and purchase copies of public documents at the NRC's PDR, O1-F21, One White Flint North, 11555 Rockville Pike, Rockville, Maryland 20852.

• NRC's Agencywide Documents Access and Management System (ADAMS): You may access publicly available documents online in the NRC Library at http://www.nrc.gov/reading-rm/adams.html. To begin the search, select “ADAMS Public Documents” and then select “Begin Web-based ADAMS Search.” For problems with ADAMS, contact the NRC's PDR reference staff at 1-800-397-4209, 301-415-4737, or by email to PDR.resource@nrc.gov. The ADAMS accession number for each document referenced in this notice (if that document is available in ADAMS) is provided the first time that a document is referenced.

FOR FURTHER INFORMATION CONTACT: Robert Beall, Office of Nuclear Reactor Regulation, U.S. Nuclear Regulatory Commission, Washington, DC 20555; telephone: 301-415-3874; email: Robert.Beall@nrc.gov; or Scott Sloan, Office of Nuclear Reactor Regulation, U.S. Nuclear Regulatory Commission, Washington, DC 20555; telephone: 301-415-1619; email: Scott.Sloan@nrc.gov.

SUPPLEMENTARY INFORMATION:

The Petition

On September 20, 2011, the NRC published a notice of receipt (76 FR 58165) of six PRMs filed by the NRDC, including PRM-50-102. The petitioner solely and specifically cited the “Recommendations for Enhancing Reactor Safety in the 21st Century: The Near-Term Task Force Review of Insights from the Fukushima Dai-ichi Accident” (NTTF Report, ADAMS Accession No. ML111861807), dated July 12, 2011, as the rationale for the PRMs. For PRM-50-102, the petitioner cites Section 4.2.5, pages 46-50, of the NTTF Report, regarding the strengthening and integration of onsite emergency response capabilities such as emergency operating procedures (EOPs), SAMGs, and EDMGs. At the time of receipt of the PRMs, the Commission was still in the process of reviewing the NTTF Report, and the NRC did not institute a public comment period for the PRMs.

In PRM-50-102, the petitioner requests the NRC to institute a rulemaking proceeding applicable to nuclear facilities licensed under Title 10 of the Code of Federal Regulations (10 CFR) parts 50, 52, and other applicable regulations to revise 10 CFR 50.63 to require more realistic, hands-on training and exercises on SAMGs and EDMGs for all staff expected to implement the strategies and those licensee staff expected to make decisions during emergencies, including emergency coordinators and emergency directors.

Reasons for Consideration

The Commission has established a process for addressing a number of the recommendations in the NTTF Report, and the NRC determined that the issues raised in PRM-50-102 are appropriate for consideration and will consider them in the ongoing NTTF Recommendation 8 rulemaking based on Section 4.2.5 of the NTTF Report.

The public will have the opportunity to provide comments on the issues raised by the petitioner in PRM-50-102 as part of the NTTF Recommendation 8 rulemaking. The NRC will consider the issues raised by the remaining NRDC PRMs through the process the Commission established for addressing the remaining recommendations in the NTTF Report. This PRM docket is closed.

Dated at Rockville, Maryland, this 13th day of April 2012.
For the Nuclear Regulatory Commission.
R.W. Borchardt,
Executive Director for Operations.

[FR Doc. 2012-10193 Filed 4-26-12; 8:45 am]

BILLING CODE 7590-01-P